DEPARTMENT OF THE TREASURY

Submission for OMB Review; Comment Request

August 21, 2002.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before September 27, 2002, to be assured of consideration.

Bureau of Alcohol, Tobacco and Firearms (BATF)

OMB Number: 1512-0200.

Form Number: ATF F 5110.31.

Type of Review: Extension.

Title: Application and Permit to Ship Puerto Rican Spirits to the United States Without Payment of Tax.

Description: ATF F 5110.31 is used to allow a person to ship spirits in bulk into the U.S. The form identifies the person in Puerto Rico from where shipments are to be made, the person in the U.S. receiving the spirits, amounts of spirits to be shipped, and the bond of the U.S. person to cover taxes on such spirits.

Respondents: Business or other for-profit.

Estimated Number of Respondents: 20.

Estimated Burden Hours Per Respondent: 27 minutes.

Frequency of Response: On occasion.

Estimated Total Reporting Burden: 450 hours.

OMB Number: 1512-0372.

Recordkeeping Requirement ID Number: ATF REC 5400/2.

Type of Review: Extension.

Title: Record and Supporting Data: Daily Summaries, Records of Production, Storage, and Disposition, and Supporting Data by Licensed Explosives Manufacturers and Manufacturers (Limited).

Description: These records, prepared by explosives manufacturers and explosives manufacturers (Limited) provide ATF with the ability to trace explosives used in crimes.

Respondents: Business or other for-profit.

Estimated Number of Recordkeepers: 1,053.

Estimated Burden Hours Per Recordkeeper: 45 minutes.

Frequency of Response: Weekly.

Estimated Total Recordkeeping Burden: 68,835 hours.

OMB Number: 1512-0550.

Recordkeeping Requirement ID Number: 27 CFR 178.92 and 27 CFR 179.102.

Type of Review: Extension.

Title: Notice of Proposed Rulemaking: Identification Markings Placed on Firearms.

Description: These regulations implement Section 923(i) of the Gun Control Act of 1968. In general, these sections require licensed manufacturers and importers to legibly identify firearms by engraving or stamping certain information such as serial numbers.

Respondents: Business or other for-profit.

Estimated Number of Recordkeepers: 2,506.

Estimated Burden Hours Per Recordkeeper: 2 hours.

Frequency of Response: Other (one time).

Estimated Total Recordkeeping Burden: 5,665 hours.

Clearance Officer: Jacqueline White, Bureau of Alcohol, Tobacco and Firearms, Room 3200, 650 Massachusetts Avenue, NW., Washington, DC 20226. (202) 927-8930.

OMB Reviewer: Joseph F. Lackey, Jr., Office of Management and Budget, Room 10235, New Executive Office Building, Washington, DC 20503. (202) 395-7316.

Lois K. Holland,
Departmental Reports Management Officer.

[FR Doc. 02-21837 Filed 8-27-02; 8:45 am]

BILLING CODE 4810-31-P